DEPARTMENT OF ENERGY

Federal Energy Regulatory Commission

[Docket No. RP97-13-010]

East Tennessee Natural Gas Company; Notice of Negotiated Rate Filing

October 23, 2003.

Take notice that on October 7, 2003, East Tennessee Natural Gas Company (East Tennessee) tendered for filing a negotiated rate transaction with one of its Patriot Project shippers. East Tennessee states that the purpose of this filing is to implement a negotiated rate agreement for firm service to be rendered on East Tennessee's Patriot Project (Docket No. CP01-415).

East Tennessee requests that the Commission accept this filing by October 22, 2003, to be effective on the date that East Tennessee commences service for customers on the Patriot Project.

East Tennessee states that copies of the filing were mailed to all affected customers of East Tennessee and interested state commissions.

Any person desiring to be heard or to protest said filing should file a motion to intervene or a protest with the Federal Energy Regulatory Commission, 888 First Street, NE., Washington, DC 20426, in accordance with § 385.214 or 385.211 of the Commission's Rules and Regulations. All such motions or protests must be filed on or before the intervention and protest date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E3-00128 Filed 10-29-03; 8:45 am]

BILLING CODE 6717-01-P